DEPARTMENT OF THE INTERIOR

Bureau of Land Management

[WO-220-1020-JH-24 1A]

Extension of Approved Information Collection, OMB Control Number 1004-0019

AGENCY: Bureau of Land Management, Interior

ACTION: Notice and request for comments.

SUMMARY: In accordance with the Paperwork Reduction Act of 1995, the Bureau of Land Management (BLM) requests the Office of Management and Budget (OMB) to extend an existing approval to collect information from individuals, households, farms, or businesses interested in cooperating with the BLM in constructing or maintaining rangeland improvement projects to aid handling and caring for domestic livestock that BLM authorizes to graze on public land. BLM uses these forms to collect this information: Form 4120-6, Cooperative Range Improvement Agreement, to document cooperative range improvement construction arrangements with grazing operators; and Form 4120-7, Range Improvement Permit, to authorize grazing operators to develop rangeland improvement projects. This information allows the BLM to review the application and to make a decision on the proposed rangeland improvement project.

DATES: You must submit your comments to BLM at the address below on or before August 21, 2006. BLM will not necessarily consider any comments received after the above date.

ADDRESSES: You may mail comments to: Bureau of Land Management, (WO-630), Eastern States Office, 7450 Boston Blvd., Springfield, Virginia 22153.

You may send comments via Internet to: comments_washington@blm.gov. Please include “ATTN: 1004-0019” and your name and return address in your Internet message.

You may deliver comments to the Bureau of Land Management, Administrative Record, Room 401, 1620 L Street, NW., Washington, DC.

All comments will be available for public review at the L Street address during regular business hours (7:45 a.m. to 4:15 p.m.) Monday through Friday.

FOR FURTHER INFORMATION CONTACT: You may contact Ken Visser on (775) 861-6492 (Commercial or FTS). Persons who use a telecommunication device for the deaf (TDD) may call the Federal Information Relay Service (FIRS) on 1-800-877-8330, 24 hours a day, seven days a week, to contact Mr. Visser.

SUPPLEMENTARY INFORMATION: 5 CFR 1320.12(a) requires that we provide a 60-day notice in Federal Register concerning a collection of information to solicit comments:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the information collection burden on those who are to respond, including the use of appropriate automated, electronic, mechanical, or other technological collection techniques or other forms of information technology.

The BLM administers the livestock grazing program consistent with land use plans, multiple use objectives, sustained yield, environmental values, economic considerations, and other factors to allow the opportunity to construct and maintain rangeland improvements on the public lands.

Because of the variations in size and complexity of rangeland improvement projects, BLM estimates it takes 50 minutes to complete each form. We estimate 600 responses per year for Form 4120-6 and 60 responses per year for Form 4120-7 with a total annual burden of 500 hours.

BLM will summarize all responses to this notice and include them in the request for OMB approval. All comments will become a matter of public record.

Dated: June 7, 2006.
Ted R. Hudson,
Bureau of Land Management, Information Collection Clearance Officer.

[FR Doc. 06-5558 Filed 6-20-06; 8:45 am]

BILLING CODE 4310-84-M